NATIONAL AERONAUTICS AND SPACE ADMINISTRATION

48 CFR Part 1811

Priorities and Allocations

AGENCY: National Aeronautics and Space Administration (NASA)

ACTION: Proposed Rule.

SUMMARY: This is a proposed rule amending the NASA FAR Supplement (NFS) to specify that use of a priority rating under the Defense Priorities and Allocations System (DPAS) regulation is not required unless the acquisition is in one of the Schedule L categories of the DPAS.

DATES: Comments should be submitted on or before November 20, 2000.

ADDRESSES: Interested parties should submit written comments to James H. Dolvin, NASA Headquarters, Office of Procurement, Contract Management Division (Code HK), Washington, DC 20546. Comments may also be submitted by e-mail to: jdolvin1@mail.hq.nasa.gov.

FOR FURTHER INFORMATION CONTACT: James H. Dolvin, Code HK, (202) 358-1279, jdolvin1@mail.hq.nasa.gov.

SUPPLEMENTARY INFORMATION:

A. Background

The Defense Priorities and Allocations System is a Department of Commerce program which supports certain authorized national defense programs by requiring that contractors give priority treatment to contracts which have priority ratings. NFS Subpart 1811.6 currently requires that most NASA contractual actions receive a priority rating under the Defense Priorities and Allocations System (DPAS) regulation (15 CFR 700). The present NFS requirement is being changed to provide that NASA acquisition actions will be rated only if they are in one of the categories in DPAS Schedule L.

B. Regulatory Flexibility Act

NASA certifies that this proposed rule will not have a significant economic impact on a substantial number of small business entities within the meaning of the Regulatory Flexibility Act (5 USC 601, et seq.), because it does not impose any new requirements on offerors or contractors.

C. Paperwork Reduction Act

The Paperwork Reduction Act does not apply because the changes to the NFS do not impose any recordkeeping or information collection requirements, or collection of information from offerors, contractors, or members of the public that require the approval of the Office of Management and Budget under 44 USC 3501, et seq.

List of Subjects in 48 CFR Part 1811

Government procurement.

Tom Luedtke,
Associate Administrator for Procurement.

Accordingly, 48 CFR Part 1811 is proposed to be amended as follows:

1. The authority citation for 48 CFR part 1811 continues to read as follows:

Authority: 42 U.S.C. 2473(c)(1).

PART 1811—DESCRIBING AGENCY NEEDS

2. Subpart 1811.6 is revised to read as follows:

Subpart 1811.6 —Priorities and Allocations

1811.603 Procedures.

(e)(i) Priority ratings are assigned on individual contracts and purchase orders by the contracting officer. The following priority ratings may be used on NASA contracts and purchase orders for equipment and services that support authorized programs (see Schedule L of the DPAS):

A1—Aircraft

A2—Missiles

A3—Ships

A5—Weapons

A6—Ammunition

A7—Electronic and Communications Equipment

B1—Military Building Supplies

B8—Production Equipment (For Contractor's Account)

B9—Production Equipment (Government-Owned)

C2—Construction

C3—Maintenance, Repair, and Operating Supplies for Facilities

C9—Miscellaneous/Other

(ii) Priority ratings will not be issued for the following:

(A) Items ordered or requisitioned from the GSA Federal Supply Service.

(B) Items for plant improvement, expansion, or construction, unless they will be physically incorporated into a construction project covered by a rated order, or unless NASA has obtained specific priority rating authority.

(C) Production or construction equipment or items to be used for the manufacture of production equipment, unless NASA has obtained specific priority rating authority.

(D) Items falling under the jurisdiction of agencies other than NASA's Delegate Agency. These are: petroleum, gas, solid fuel, electric power, and all other forms of energy; food; civil transportation and the movement of persons and property by all modes; minerals; water; housing facilities; health facilities; radio-isotopes, stable isotopes, source material and special nuclear material produced in Government-owned plants or facilities operated by or for the Department of Energy; communication services; copper raw materials; crushed stone; gravel; sand; scrap; slag; central steam heat; and waste paper.

(iii) NASA rated orders may only be assigned a DO rating, unless NASA has obtained a DX rating from the Department of Defense.

(g) Installation requests for assistance shall be directed to the Headquarters Office of Procurement (Code HK).

[FR Doc. 00-24178 Filed 9-19-00; 8:45 am]

BILLING CODE 7510-01-P